DEPARTMENT OF DEFENSE

Department of the Army

Supplemental Draft Environmental Impact Statement (SDEIS) for the Proposed Addition of Maneuver Training Land at Fort Irwin, CA

AGENCY: Department of the Army, DoD.

ACTION: Notice of availability.

SUMMARY: The Army has prepared an SDEIS to address potential environmental effects associated with proposed Army training in the study areas in Fort Irwin. Expansion of the maneuver area of the National Training Center (NTC) provides an extended battle space (land and air space) environment for training Army brigade-sized ground and air units according to the Army's training and combat operations.

DATES: The comment period will end 45 days after publication of the NOA in the Federal Register by the U.S. Environmental Protection Agency.

ADDRESSES: Requests for copies of the SDEIS may be made to: NTC Land Expansion Program, Attention: AFZJ-SP, Strategic Planning Division, P.O. 105004, Fort Irwin, California 93210, by calling (760) 380-6339, or by facsimile at (760) 380-2294.

FOR FURTHER INFORMATION CONTACT: Contact Mrs. Priscilla Kernek or Mr. Allen Lute, AFZJ-SP Strategic Planning Division, P.O. 105004, Fort Irwin, CA 92311. Interested parties may also call (760) 380-6173.

SUPPLEMENTARY INFORMATION: The proposed project involves acquisition of approximately 110,000 new acres on the east and southwest sides of the existing NTC and the return to training use of approximately 22,000 acres in the south that are currently set aside for the desert tortoise critical habitat. While the proposed land expansion is less than the 274,167 acres identified in the 2003 Land Use Requirements Survey (LURS), it satisfies the most critical needs for additional maneuver land, while taking into account the Army's environmental stewardship responsibilities.

Submit electronic comments and data by sending electronic mail (e-mail) to allen.lute@irwin.army.mil. Submit comments as an ASCII file, avoiding the use of special characters and any form of encryption. Fort Irwin also accepts data on disks in Microsoft Word 2000 file format.

Individuals who wish to review the SDEIS may examine a copy at a public library in any of the following locations: Barstow, Victorville, San Bernardino, Torrance, Los Angeles, Sacramento, and San Diego, CA.

The dates and locations of the public hearings are: April 27, Barstow City Council Chambers, 220 E. Mountain View, Barstow; April 29, Victorville City Council Chambers, 14343 Civic Drive, Victorville; May 5, San Diego City Admin Building, 22 C Street, 12th Floor, San Diego; May 6, Torrance City Hall, 3031 Torrance Boulevard, Torrance; May 12, San Bernardino City Council Chambers, 300 N. D Street, San Bernardino; and May 18, 2004, Barstow City Council Chambers, 220 E. Mountain View, Barstow. The date, time, and location of the public hearings will also be announced in the local newspapers in Barstow, Victorville, San Bernardino, Torrance, and San Diego, CA.

Dated: April 2, 2004.
Raymond J. Fatz,
Deputy Assistant Secretary of the Army, (Environment, Safety, and Occupational Health), OASA(I&E).

[FR Doc. 04-8052 Filed 4-8-04; 8:45 am]

BILLING CODE 3710-08-M